DEPARTMENT OF ENERGY

Federal Energy Regulatory Commission

Notice of Citation Change for Commision Rulemakings

Take notice that on January 1, 2019, the Commission will be changing its official citation format for orders in rulemaking proceedings. Because Commission orders in rulemaking proceedings currently are published in a variety of sources (posting on eLibrary and the Commission website, and distribution through LexisNexis, Westlaw, Commerce Clearing House, and the Federal Register), adoption of a standard citation format will permit citation uniformity across all sources and simplify the citation of Commission rulemakings.

Accordingly, citations to rulemakings must use the FERC citation assigned by the Commission when issuing orders, e.g., 162 FERC ¶ 61,001, at P 1 (2018). The FERC citation format alone suffices for future rulemaking proceedings, and also for those past rulemaking proceedings in which the paragraphs of the order are individually numbered and can be used for pinpoint citation. If, however, a pinpoint page citation is provided to a past rulemaking proceeding that does not contain individual paragraph numbers, both the FERC citation and a pinpoint citation to FERC Stats. & Regs. (or to the Federal Register) should be used.¹

¹ The Commission encourages participants, wherever possible, to provide in their pleadings pinpoint citations to the relevant paragraphs or pages.

Dated: December 31, 2018.
Nathaniel J. Davis, Sr.,
Deputy Secretary.

[FR Doc. 2019-00461 Filed 1-30-19; 8:45 am]

BILLING CODE 6717-01-P